DEPARTMENT OF ENERGY

Federal Energy Regulatory Commission

Notice of Application To Amend License, and Soliciting Comments, Motions To Intervene, and Protests

March 30, 2000.

a. Application Type: Request for Approval to Convey Project Property.

b. Project No.: 2169-015.

c. Date Filed: February 24, 2000.

d. Applicant: Alcoa Power Generating Inc. (APGI), Tapoco Division.

e. Name of Project: Little Tallassee.

f. Location: The Project is located on the Little Tennessee River in Monroe and Blount Counties, Tennessee, and Cheoah River in River in Graham and Swain Counties, North Carolina. The project does not utilize federal lands.

g. Filed Pursuant to: Federal Power Act, 16 U.S.C. 791(a)-825(r).

h. Applicant Contact: J.E. Adams, Alcoa Power Generating Inc., 300 N. Hall Road, Alcoa, TN 37701; Tel: (423) 977-3333.

i. FERC Contact: Any questions on this notice should be addressed to Vedula Sarma at (202) 219-3273 or by e-mail at vedula.sarma@ferc.fed.us.

j. Deadline for Filing Comments and/or Motions: May 10, 2000. Please include the project number (2169-015) on any comments or motions filed.

k. Description of Filing: APGI is proposing to revise the project boundary of the Santeetlah development of the Little Tallassee Project, FERC No. 2169, at the property of Robert H. and Joan K. Mosley (Mosleys). The purpose is to resolve a discrepancy of the project boundary line at the Mosleys' property and set it along the edge of the retaining wall that runs along the reservoir edge. The area represents a de minimis portion of the project boundary.

l. Location of the Application: A copy of the application is available for inspection and reproduction at the Commission's Public Reference Room, located at 888 First Street, NE, Room 2A, Washington, DC 20426, or by calling (202) 208-1371. This filing may be viewed on http://www. ferc. fed.us/online/rims. htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-8292 Filed 4-4-00; 8:45 am]

BILLING CODE 6717-01-M